DEPARTMENT OF THE INTERIOR

Bureau of Ocean Energy Management

[BOEM-2022-0031]

Notice of Availability of the 2023-2028 National Outer Continental Shelf Oil and Gas Leasing Proposed Program and Draft Programmatic Environmental Impact Statement

AGENCY: Bureau of Ocean Energy Management (BOEM), Interior.

ACTION: Notice; request for comments.

SUMMARY: BOEM is announcing the availability of, and requests comments on, the Proposed Program for the 2023-2028 National Outer Continental Shelf Oil and Gas Leasing Program (2023-2028 Program, National OCS Program, or Program), as well as the Draft Programmatic Environmental Impact Statement for the 2023-2028 Program (Draft Programmatic EIS).

DATES: Comments should be submitted by October 6, 2022 to the address specified in the ADDRESSES section of this notice. Dates of virtual public meetings to be held between now and October 6, 2022 will be posted on https://www.BOEM.gov/National-OCS-Program.

ADDRESSES: Comments on the Proposed Program or Draft Programmatic EIS may be submitted in one of the following ways:

1. Through the Regulations.gov web portal: Navigate to http://www.regulations.gov and under the Search tab, in the space provided, type in Docket ID: BOEM-2022-0031 to submit comments and to view other comments already submitted. Information on using www.regulations.gov, including instructions for accessing documents, submitting comments, and viewing the docket after the close of the comment period, is available through the links under the box entitled, “Are you new to this site?”

2. Mailed in an envelope labeled “Comments for the 2023-2028 National OCS Oil and Gas Leasing Proposed Program” and mailed or sent by delivery service to Ms. Kelly Hammerle, Chief, National OCS Oil and Gas Leasing Program Development and Coordination Branch, Leasing Division, Office of Strategic Resources, Bureau of Ocean Energy Management (VAM-LD), 45600 Woodland Road, Sterling, VA 20166-9216, telephone (703) 787-1613.

FOR FURTHER INFORMATION CONTACT: For information on the 2023-2028 Program process or BOEM's policies associated with this notice, please contact Ms. Kelly Hammerle, Chief, National OCS Oil and Gas Leasing Program Development and Coordination Branch at (703) 787-1613. For information on the 2023-2028 Draft Programmatic EIS, submission of comments related to potential environmental impacts, or Cooperating Agency status, please contact Jennifer Bosyk, Chief, Branch of Environmental Coordination, at (703) 787-1834.

SUPPLEMENTARY INFORMATION: BOEM is responsible for administering the leasing program for oil and gas resources on the Outer Continental Shelf (OCS) and advising the Secretary of the Interior on the National OCS Program. The three analytical phases required to develop a new National OCS Program are the (1) Draft Proposed Program (DPP); (2) Proposed Program; and (3) Proposed Final Program (PFP). The 2023-2028 Program (originally proposed as the Draft 2019-2024 Program), once approved, will follow the 2017-2022 Program. The Proposed Program is the second in a series of three proposals made by the Secretary, pursuant to section 18 of the OCS Lands Act, before final action may be taken to approve the 2023-2028 National OCS Program.

The DPP was published on January 9, 2018, with a 60-day comment period and proposed a lease sale schedule of 47 lease sales in all four OCS regions. It included 25 of the 26 OCS planning areas and proposed 19 lease sales in the Alaska Region (three in the Chukchi Sea, three in the Beaufort Sea, two in Cook Inlet, and one sale each in the 11 other available planning areas in Alaska), seven lease sales in the Pacific Region (two each for Northern California, Central California, and Southern California, and one for Washington/Oregon), 12 lease sales in the Gulf of Mexico (GOM) Region (ten regionwide lease sales for the portions of the Central, Western, and Eastern GOM planning areas that are not currently under moratorium, and two sales for the remaining portions of the Central and Eastern GOM planning areas after the Congressional moratorium against leasing was set to expire), and nine lease sales in the Atlantic Region (three sales each for the Mid- and South Atlantic, two for the North Atlantic, and one for the Straits of Florida). The Proposed Program analysis and the companion Draft Programmatic EIS analyze the full lease sale schedule presented in the DPP for the purpose of informing the Secretary prior to advancing the Proposed Program.

Following the January 2018 publication of the DPP, BOEM received more than 2 million comments from stakeholders, including governors, Federal agencies, state agencies, local agencies, energy and non-energy industries, Tribal governments, non-governmental organizations, including environmental advocacy groups, and the general public (see Appendix A of the Proposed Program document for more information).

After careful consideration of the OCS Lands Act Section 18(a) factors, as well as input from governors and the public, this Proposed Program offers up to ten potential sales in the Gulf of Mexico (GOM) Region Program Area 1 (which contains the Western GOM Planning Area, most of the Central GOM Planning Area, and a small portion of the Eastern GOM Planning Area), and one potential lease sale in the northern portion of the Cook Inlet Planning Area offshore Alaska. Two Subarea Options have been identified that will be analyzed in the PFP and Final Programmatic EIS: a 15-mile no leasing buffer offshore Baldwin County, Alabama, and a targeted leasing approach in the GOM Program Area 1. There are no potential lease sales scheduled for planning areas in the Pacific Region, Atlantic Region, GOM Program Area 2 (which contains most of the Eastern GOM Planning Area), or Alaska Region (other than Cook Inlet). During the development of the National OCS Program, once a defined area is included in the National OCS Program, it becomes known as a program area. Program areas are therefore the portions of the original 26 OCS planning areas that remain under consideration for leasing during the National OCS Program development process.

The schedule shown in Table 1 reflects the potential lease sales for the 2023-2028 Proposed Program. Figures 1 and 2 depict the program areas included in the 2023-2028 Proposed Program.

The size, timing, location, and number of potential lease sales in this Proposed Program will be robustly analyzed in the PFP and Final Programmatic EIS and may be further narrowed or excluded. The Secretary is requesting public and stakeholder input on the Proposed Program to inform the PFP and Final Programmatic EIS analyses.

BOEM also seeks feedback and input on additional data sources, reasonable assumptions and methodological approaches which could help BOEM quantitatively and/or qualitatively estimate how demand for OCS oil and gas and energy market substitutions might differ in the future under various climate pathways that would be required to reach net zero domestic greenhouse gas emissions by 2050, as President Biden and the parties to the Paris Agreement have staked out as objectives.

Chapter 5 of the Proposed Program describes BOEM's current approach to analyzing net benefits. Section 5.3.4 provides a qualitative description of the likely impacts and changes to the net benefits that could result under a hypothetical net-zero scenario. BOEM seeks input and feedback on this approach as it continues to refine its analysis going forward.

This Proposed Program will be analyzed to inform the Secretary's PFP, which will be published with a Final Programmatic EIS and be provided to the President and Congress. Upon consideration of the PFP and Final Programmatic EIS, and comments received as part of the National OCS Program development process, the Secretary will approve a 2023-2028 Program, determining the program areas to be potentially leased in the 2023-2028 timeframe.

Table 1—2023-2028 Proposed Program Lease Sale Schedule
Count | Sale No. | Year | OCS region and program area
1. | 262 | 2023 | Gulf of Mexico: GOM Program Area 1.
2. | 263 | 2024 | Gulf of Mexico: GOM Program Area 1.
3. | 264 | 2024 | Gulf of Mexico: GOM Program Area 1.
4. | 265 | 2025 | Gulf of Mexico: GOM Program Area 1.
5. | 266 | 2025 | Gulf of Mexico: GOM Program Area 1.
6. | 267 | 2026 | Alaska: Cook Inlet Program Area.
7. | 268 | 2026 | Gulf of Mexico: GOM Program Area 1.
8. | 269 | 2026 | Gulf of Mexico: GOM Program Area 1.
9. | 270 | 2027 | Gulf of Mexico: GOM Program Area 1.
10. | 271 | 2027 | Gulf of Mexico: GOM Program Area 1.
11. | 272 | 2028 | Gulf of Mexico: GOM Program Area 1.

The Proposed Program is the proposed action evaluated in the Draft Programmatic EIS. BOEM has elected to prepare the Draft Programmatic EIS to help address certain environmental components outlined in Section 18 of the OCS Lands Act. The National Aeronautics and Space Administration and the National Park Service are Cooperating Agencies on the Draft Programmatic EIS. BOEM analyzed several environmentally important areas in the Draft Programmatic EIS for possible exclusion from the 2023-2028 Program and is soliciting public comment on these or other areas that should be considered for exclusion.

Please go to https://www.boem.gov/National-OCS-Oil-and-Gas-Leasing-Program-for-2023-2028/ for additional information about the Draft Programmatic EIS and the National OCS Program for 2023-2028.

Public Comment: All interested parties, including Federal, state, Tribal, and local governments, oil and gas producers, and others, can submit written comments on the Proposed Program and the Draft Programmatic EIS, including any significant issues that should be addressed in the PFP and Final Programmatic EIS. Comments that provide scientific information, geospatial or other data, or other evidence to support your input are most useful, and such information can be provided as attachments to comments.

BOEM will protect privileged or proprietary information that you submit in accordance with the Freedom of Information Act (FOIA) and OCS Lands Act requirements. To avoid inadvertent release of such information, interested parties should mark all documents and every page containing such information with “Confidential—Contains Proprietary Information.” To the extent a document contains a mix of proprietary and nonproprietary information, interested parties should mark clearly the portions of the document that are proprietary and those that are not. Exemption 4 of FOIA applies to trade secrets and commercial or financial information that you submit that is privileged or confidential. Section 18 of the OCS Lands Act also states that the “Secretary shall maintain the confidentiality of all privileged or proprietary data or information for such period of time as is provided for in this subchapter, established by regulation, or agreed to by the parties” (43 U.S.C. 1344(g)).

Please be aware that BOEM's practice is to make all other comments, including the names and addresses of individuals, available for public inspection. Before including your address, phone number, email address, or other personal identifying information in your comment, please be advised that your entire comment, including your personal identifying information, may be made publicly available at any time. Even if BOEM withholds your information in the context of this Program development process, your submission is subject to the Freedom of Information Act (FOIA), and if your submission is requested under the FOIA, your information will only be withheld if a determination is made that one of the FOIA's exemptions to disclosure applies. Such a determination will be made in accordance with the Department's FOIA regulations and applicable law.

In order for BOEM to consider withholding from disclosure your personal identifying information, you must identify, in a cover letter, any information contained in the submittal of your comments that, if released, would constitute a clearly unwarranted invasion of your personal privacy. You must also briefly describe any possible harmful consequence(s) of the disclosure of information, such as embarrassment, injury or other harm. Note that BOEM will make available for public inspection, in their entirety, all comments submitted by organizations and businesses, or by individuals identifying themselves as representatives of organizations or businesses.

Public Meetings: BOEM will hold a series of virtual public meetings to provide information and the opportunity for public comment on the Proposed Program and the Draft Programmatic EIS. BOEM's public meetings will be held online using an open house format, with several information stations, hosted by BOEM subject matter experts, each of which will focus on different aspects of BOEM's Proposed Program and Draft Programmatic EIS analysis. The virtual open house format allows members of the public to view information, discuss the 2023-2028 National OCS Program and the Draft Programmatic EIS with BOEM staff, and to receive instructions about how to provide comments on the documents.

Virtual public meetings will be scheduled between now and October 6, 2022. Specific dates and times, will be posted on https://www.boem.gov/National-OCS-Program.

Authority: This Notice of Availability for the 2023-2028 Proposed Program is published in accordance with Section 18 of the OCS Lands Act and its implementing regulations (30 CFR part 556 subpart B). This Notice of Availability for the 2023-2028 Draft Programmatic EIS is published pursuant to the regulations (40 CFR 1506.6 and 43 CFR 46.435) implementing the provisions of the National Environmental Policy Act.

Amanda Lefton,
Director, Bureau of Ocean Energy Management.

BILLING CODE 4340-98-P

[FR Doc. 2022-14524 Filed 7-7-22; 8:45 am]

BILLING CODE 4340-98-C